NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by September 8, 2023. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2024-003

1. Applicant: Chris Linder, Potomac MD, 20854

Activity for Which Permit Is Requested

Waste Management. The applicant seeks and Antarctic Conservation Act permit to fly a small battery- operated remotely piloted aircrafts (RPAS) to take scenic photos and film of the Antarctic. The RPAS would not be flown over concentrations of birds or mammals or over Antarctic Specially Protected Areas. The RPAS would only be flown by the applicant who has extensive piloting experience in fair weather conditions. Several measures would be taken to prevent against loss of the RPAS. The applicant is seeking a Waste Permit to cover any accidental releases that may result from flying a UAV.

Location

Antarctic Peninsula Region.

Dates of Permitted Activities

January 14, 2024-January 30, 2024.

Kimiko S. Bowens-Knox,
Program Analyst, Office of Polar Programs.

[FR Doc. 2023-17089 Filed 8-8-23; 8:45 am]

BILLING CODE 7555-01-P